DEPARTMENT OF AGRICULTURE

Food and Nutrition Service

Agency Information Collection Activities: Proposed Collection; Comment Request; Food Stamp Program Food Coupon Deposit Document, Form FNS-521

AGENCY: Food and Nutrition Service (FNS), USDA.

ACTION: Notice.

SUMMARY: In accordance with the Paperwork Reduction Act of 1995, this notice invites the general public and other public agencies to comment on proposed information collections. The proposed collection is a revision of a currently approved collection.

DATES: Written comments must be received on or before July 7, 2008 to be assured of consideration.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques or other forms of information technology.

Comments may be sent to Ronald Ward, Chief, Retailer Operations Branch, Benefit Redemption Division, Food and Nutrition Service, U.S. Department of Agriculture, 3101 Park Center Drive, Room 403, Alexandria, VA 22302. Comments may also be submitted via fax to the attention of Ronald Ward at (703) 305-2523 or via email to: brdhq-web@fns.usda.gov.

All written comments will be open for public inspection at the office of the Food and Nutrition Service during regular business hours (8:30 a.m. to 5 p.m., Monday through Friday) at 3101 Park Center Drive, Alexandria, Virginia 22302, Room 403.

All responses to this notice will be summarized and included in the request for Office of Management and Budget approval. All comments will be a matter of public record.

FOR FURTHER INFORMATION CONTACT: Requests for additional information or copies of this information collection should be directed to Ronald Ward, (703) 305-2523.

SUPPLEMENTARY INFORMATION: Title: Food Coupon Deposit Document.

OMB Number: 0584-0314.

Form Number: FNS-521.

Expiration Date: May 31, 2008.

Type of Request: Revision of a currently approved collection of information.

Abstract: The Food Stamp Act of 1977, as amended, Section 10, (7 U.S.C. 2019) requires that the Food and Nutrition Service (FNS) provide for the redemption, through financial institutions, of food coupons accepted by retail food stores and wholesale food concerns from program participants.

In addition, 7 CFR 278.5 of the Food Stamp Program (FSP) regulations governs the participation of financial institutions and the Federal Reserve participation in the food coupon redemption process. Requirements in the FSP regulations are the basis for the information collected on Form FNS-521, Food Coupon Deposit Document (FCDD). The FCDD is required to be used by financial institutions when they deposit food coupons at Federal Reserve Banks (FRBs).

The proposed revision to the information collection burden associated with Form FNS-521 reflects a reduction because of the decreased number of FCDDs processed by the program respondents. The number of responses per respondent decreased significantly as FNS phased-out the issuance of paper food coupons and implemented the Electronic Benefit Transfer (EBT) system nationwide. Currently, 100 percent of all food stamp benefits are issued electronically. Some paper food coupons remain in circulation, however, as they were issued before EBT was fully implemented in each of the States. FNS is seeking approval not to display the expiration date of the information collection because it is impractical and not cost efficient to incur expenses for a form thats use is rapidly declining due to the number of FCDDs processed annually. As a result of the decreased number of FCDDs now processed, the FRBs have consolidated their processing points from 37 locations to one location.

Respondents: Financial institutions and Federal Reserve Banks.

Estimated Average Number of Respondents: 10,000.

Estimated Annual Number of Responses per Respondent: The number of responses is estimated to be 0.0470572 responses per financial institution or Federal Reserve Bank per year.

Estimated Total Average Annual Responses: 470.5729.

Estimate of Burden: Public reporting burden for this collection of information is estimated to average 0.0097404 hours per response.

Estimated Total Average Annual Burden: 4.583615 hours.

Dated: April 24, 2008.
Roberto Salazar,
Administrator, Food and Nutrition Service.

[FR Doc. E8-9770 Filed 5-2-08; 8:45 am]

BILLING CODE 3410-30-P